DEPARTMENT OF ENERGY

Federal Energy Regulatory Commission

[Project No. 13719-000]

Alabama Municipal Electric Authority; Notice of Competing Preliminary Permit Application Accepted for Filing and Soliciting Comments and Motions To Intervene

August 2, 2010.

On April 29, 2010, Alabama Municipal Electric Authority filed an application for a preliminary permit pursuant to section 4(f) of the Federal Power Act, proposing to study the feasibility of the George W. Andrews Lock and Dam Hydroelectric Project. The proposed project would be located at the existing George W. Andrews Lock and Dam on the Chattahoochee River in Huston County, near the town of Columbia, Alabama. The proposed project would occupy federal lands under the jurisdiction of the U.S. Army Corps of Engineers, Mobile District. The sole purpose of a preliminary permit, if issued, is to grant the permit holder priority to file a license application during the permit term. A preliminary permit does not authorize the permit holder to perform any land disturbing activities or otherwise enter upon lands or waters owned by others without the owners' express permission.

The proposed project would consist of: (1) A new powerhouse containing four turbine-generators with a total combined plant capacity of 25 megawatts; (2) an approximately 10-mile-long, 115-kilovolt transmission line connecting the powerhouse to an existing substation; and (3) appurtenant facilities. The proposed powerhouse and adjacent facilities would occupy about 8 acres of land on the levee section of the Corps' facility, on the Alabama shore, opposite the river from the lock structure. The proposed project would have an average annual generation of 82 gigawatt-hours.

Applicant Contact: Mr. Mark Crisp, P.E., C.H. Guernsey and Company, 1100 Circle 75 Parkway, Suite 1530, Atlanta, GA 30339, phone: (770) 857-1250.

FERC Contact: Sergiu Serban, (202) 502-6211.

Competing Application: This application competes with Project No. 13081-000 filed November 21, 2007.

Deadline for Filing Comments and Motions To Intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13719-000) in the docket number field to access the document. For assistance, contact FERC Online Support.

Nathaniel J. Davis, Sr.,
Deputy Secretary.

[FR Doc. 2010-19524 Filed 8-6-10; 8:45 am]

BILLING CODE 6717-01-P